FEDERAL MARITIME COMMISSION

Notice of Public Hearing; Passenger Vessel Financial Responsibility

AGENCY: Federal Maritime Commission.

ACTION: Public hearing; extension of time to file requests to appear.

SUMMARY: The Commission has determined to hold a public hearing on March 3, 2010 to receive public testimony concerning the Commission's Passenger Vessel Financial Responsibility Program.

DATES: The due date for submitting a request to participate in the Public Hearing is extended to February 19, 2010. The due date for submitting (15) copies of participant's prepared hearing statements is February 26, 2010.

ADDRESSES: Address all requests to appear to: Karen V. Gregory, Secretary, Federal Maritime Commission, 800 North Capitol Street, NW., Room 1046, Washington, DC 20573-0001, (202) 523-5725, E-mail: secretary@fmc.gov.

FOR FURTHER INFORMATION CONTACT: Karen V. Gregory, Secretary, Federal Maritime Commission, 800 North Capitol Street, NW., Room 1046, Washington, DC 20573-0001, (202) 523-5725, E-mail: secretary@fmc.gov.

SUPPLEMENTARY INFORMATION: By public notice published in the Federal Register on January 28, 2010 (75 FR 4560), the Federal Maritime Commission announced that it would hold a public hearing on March 3, 2010, at which interested parties could make presentations concerning the Commission's passenger vessel financial responsibility program. The hearing will be held in the Commission's Main Hearing Room, Room 100, 800 North Capitol Street, NW., Washington, DC, at a time that will be announced in a subsequent notice.

The time for filing a request to appear at this hearing has been extended from February 16, 2010 to February 19, 2010. The due date for submitting fifteen (15) copies of participant's prepared hearing statement is February 26, 2010.

Requests to appear must be filed with the Office of the Secretary no later than 5 p.m. on February 19, 2010, and include the name, street address, e-mail, address, telephone number, and the name of your company or employer, if any. Parties wishing to participate should also provide a brief statement describing the nature of their business, e.g., PVO, port, industry association, credit and financial company, surety, guarantor, insurer, travel agent, cruise passenger, or other interested party.

Requests to appear should be addressed to the Office of the Secretary and submitted: by e-mail as an attachment (Microsoft Word) sent to secretary@fmc.gov; by facsimile to 202-523-0014; or by U.S. mail or courier to Federal Maritime Commission, 800 North Capitol Street, NW., Washington, DC 20573. Please note, to avoid delay, email or facsimile submissions are encouraged. The Commission will announce the time of the hearing, the order of presentation, and time allotment prior to the March 3, 2010 hearing.

By the Commission.
Karen V. Gregory,
Secretary.

[FR Doc. 2010-3397 Filed 2-19-10; 8:45 am]

BILLING CODE P